DEPARTMENT OF THE INTERIOR

National Park Service

[NPS-WASO-NAGPRA-NPS0028705; PPWOCRADN0-PCU00RP14.R50000]

Notice of Inventory Completion: Department of Anthropology, University of Alaska Anchorage, Anchorage, AK

AGENCY: National Park Service, Interior.

ACTION: Notice.

SUMMARY: The Department of Anthropology, University of Alaska Anchorage has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Department of Anthropology, University of Alaska Anchorage. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Department of Anthropology, University of Alaska Anchorage at the address in this notice by October 3, 2019.

ADDRESSES: Dr. John Stalvey, Interim Provost, University of Alaska Anchorage, 3211 Providence Drive, Anchorage, AK 99508, telephone (907) 786-1050, email Jstalvey@alaska.edu.

SUPPLEMENTARY INFORMATION: Notice is here given in accordance with the Native American Graves Protection and Repatriation Act (NAGPRA), 25 U.S.C. 3003, of the completion of an inventory of human remains under the control of the Department of Anthropology, University of Alaska Anchorage, Anchorage, AK. The human remains were removed from Point Barrow area, North Slope Borough, AK.

This notice is published as part of the National Park Service's administrative responsibilities under NAGPRA, 25 U.S.C. 3003(d)(3). The determinations in this notice are the sole responsibility of the museum, institution, or Federal agency that has control of the Alaska Native human remains. The National Park Service is not responsible for the determinations in this notice.

Consultation

A detailed assessment of the human remains was made by the Department of Anthropology, University of Alaska Anchorage professional staff in consultation with representatives of the Native Village of Barrow Inupiat Traditional Government.

History and Description of the Remains

At an unknown time, human remains representing, at minimum, one individual were removed from Utqiaġvik (Point Barrow) North Slope Borough, AK. The skull was collected from the ground by a bush pilot and donated in 1983 to the Department of Anthropology by the pilot's daughter. At the time of donation the skull was described as bleached and moss-covered. Dr. Harrod examined the skull and noted it is consistent with Inupiaq crania. No known individuals were identified. No associated funerary objects are present.

The Iñupiat are descendants of the original people of Point Barrow, and still occupy their original territory. They are represented at Point Barrow by the present-day Native Village of Barrow Inupiat Traditional Government.

Determinations Made by the Department of Anthropology, University of Alaska Anchorage

Officials of the Department of Anthropology, University of Alaska Anchorage have determined that:

• Pursuant to 25 U.S.C. 3001(9), the human remains described in this notice represent the physical remains of one individual of Alaska Native ancestry.

• Pursuant to 25 U.S.C. 3001(2), there is a relationship of shared group identity that can be reasonably traced between the Alaska Native human remains and the Native Village of Barrow Inupiat Traditional Government.

Additional Requestors and Disposition

Lineal descendants or representatives of any Indian Tribe or Native Hawaiian organization not identified in this notice that wish to request transfer of control of these human remains should submit a written request with information in support of the request to Dr. John Stalvey, Interim Provost, University of Alaska Anchorage, 3211 Providence Drive, Anchorage, AK 99508, telephone (907) 786-1050, email Jstalvey@alaska.edu, by October 3, 2019. After that date, if no additional requestors have come forward, transfer of control of the human remains to Native Village of Barrow Inupiat Traditional Government may proceed.

The Department of Anthropology, University of Alaska Anchorage is responsible for notifying the Native Village of Barrow Inupiat Traditional Government that this notice has been published.

Dated: August 13, 2019.
Melanie O'Brien,
Manager, National NAGPRA Program.

[FR Doc. 2019-18854 Filed 8-30-19; 8:45 am]

BILLING CODE 4312-52-P